DEPARTMENT OF THE INTERIOR

Bureau of Land Management

[LLWYP07000.LL13100000.DB0000]

Notice of Intent To Prepare an Environmental Impact Statement for the Greater Crossbow Oil and Gas Project and Possible Amendments to the Casper Resource Management Plan, Wyoming

AGENCY: Bureau of Land Management, Interior.

ACTION: Notice of intent.

SUMMARY: In compliance with the National Environmental Policy Act of 1969, as amended (NEPA), the Federal Land Policy and Management Act of 1976, as amended (FLPMA), and the Mineral Leasing Act of 1920, as amended, the Bureau of Land Management (BLM), as lead agency, through the Buffalo Field Office, Buffalo, Wyoming, intends to prepare an Environmental Impact Statement (EIS) for EOG Resources Inc.'s (EOG's) proposed Greater Crossbow Oil and Gas Project (Project). The proposal area includes Federal lands administered by the BLM's Buffalo and Casper Field Offices and the U.S. Forest Service's (USFS) Thunder Basin National Grasslands. This notice initiates the public scoping process for the EIS and potential land use plan amendments. The purpose of the public scoping process is to seek input and identify issues regarding the Project.

DATES: Comments may be submitted in writing until December 10, 2015. In order to be considered in the Draft EIS, all comments must be received prior to the close of the 45-day scoping period or 15 days after the last public meeting, whichever is later. The BLM will provide additional opportunities for public participation as appropriate. The dates and locations of any scoping meetings will be announced at least 15 days in advance through the local news media, newspapers, and the BLM Web site at: http://www.blm.gov/wy/st/en/field_offices/Buffalo.html.

ADDRESSES: You may submit written comments by any of the following methods:

• Web site: http://www.blm.gov/wy/st/en/info/NEPA/documents/bfo/GC.html.

• Email: BLM_WY_BuffaloGCEIS@blm.gov.

• Fax: 307-684-1122.

• Mail: Greater Crossbow Oil and Gas Project, BLM Buffalo Field Office, 1425 Fort Street, Buffalo, Wyoming 82834.

Documents pertinent to this proposal are available for public review at the BLM Buffalo Field Office or the USFS Douglas Ranger District Office, 2250 E. Richards Street, Douglas, Wyoming.

FOR FURTHER INFORMATION CONTACT: Thomas Bills, NEPA Coordinator, telephone: 307-684-1133; address: 1425 Fort Street, Buffalo, Wyoming 82834; email: BLM_WY_BuffaloGCEIS@blm.gov. Persons who use a telecommunications device for the deaf (TDD) may call the Federal Information Relay Service (FIRS) at 1-800-877-8339 to contact Mr. Bills during normal business hours. The FIRS is available 24 hours a day, 7 days a week, to leave a message or question with the above individual. You will receive a reply during normal business hours. You may call either of these numbers to have your name added to our mailing list.

SUPPLEMENTARY INFORMATION:

EOG proposes to develop 1,500 oil and natural gas wells on 100 multi-well pads over a 10-year period. As part of this development, EOG proposes to:

• Use directional, vertical, horizontal, and other drilling techniques;

• Develop area infrastructure to support oil and gas production, including well pads, roads, pipelines, power lines, compressor and electrical substations, and support facilities, such as water supply wells and water disposal facilities;

• Conduct year-round drilling where seasonal raptor restrictions may otherwise apply.

Surface disturbance associated with the proposal is estimated to include 7,000 acres of initial surface disturbance for the construction of new roads, well pads, pipelines, and support facilities, of which approximately 3,700 acres of surface distrubance may remain for the life of the project.

The proposal area lies between the towns of Wright and Bill, primarily west of Wyoming Highway 59, and includes approximately 120,000 acres. The USFS manages about 5,700 surface acres, or 5 percent of the Project area surface. The remainder of surface area affected by the proposal is privately owned (88 percent) or held by the State of Wyoming (7 percent). The BLM does not manage any of the surface area potentially affected by the Project. The proposal area includes about 74,000 acres (62 percent of the area) of BLM-administered Federal mineral estate. The remainder of the mineral estate in the Project area is privately owned (30 percent) or held by the State of Wyoming (8 percent). The BLM has identified the following preliminary issues: Greater sage-grouse and raptor conservation, especially ferruginous hawks; year-round drilling where seasonal raptor restrictions may otherwise apply; potential conflicts with coal mining and other area resource uses; air quality; ground and surface waters and water injection sites affected by the proposal; area transportation; the level of anticipated development of oil and gas resources in the planning area; and, the identification of opportunities to apply mitigation hierarchy strategies for on-site, regional, and compensatory mitigation, and, as appropriate, landscape-level conservation and management actions to achieve resource objectives.

Authorization of this proposal may require amendment of the Casper Field Office, Casper Resource Management Plan (RMP). Similarly, the USFS, as cooperating agency, may use the EIS analysis to support preparation of a land use plan amendment for the Thunder Basin National Grassland, Land and Resource Management Plan (LRMP), if appropriate. By this notice, the BLM is complying with the requirements in 43 CFR 1610.2(c) to notify the public of potential amendments to land use plans, based on the findings of the EIS for the Project. If land use plan amendments are necessary or appropriate, the BLM will integrate the land-use planning processes with the NEPA process for this project.

The BLM is announcing the beginning of a scoping process to solicit public comments and identify issues associated with the Public. The BLM seeks resource information and data for public land values (e.g., air quality, cultural and historic resources, fire/fuels, fisheries, forestry, lands and realty, non-energy minerals and geology, oil and gas including coalbed natural gas, paleontology, rangeland management, recreation, soil, water, and wildlife) in the Project area. The purpose of this process is to ensure that the BLM's analysis of the Project has sufficient information and data to consider a reasonable range of resource uses, management options, and alternatives for managing public lands. The EIS for the Project will incorporate elements of the Wyoming Core Population Strategy and the BLM's Greater Sage-Grouse planning effort and decisions (76 FR 77008, December 9, 2011).

In connection with its evaluation of any authorizations and actions proposed in the EIS, the BLM will determine if those actions conform to the decisions in the current and proposed land use plans for the Project area. Any proposed actions that would change the scope of resource uses, terms and conditions, and decisions of these plans may require amendment of the affected plan(s). If the BLM determines that a plan amendment is necessary, it would conduct the appropriate analysis simultaneously with preparation of the EIS for the Project. The planning criteria for any necessary plan amendment will follow that found in the affected plan(s).

To provide the public with an opportunity to review the proposal and associated information, as well as any proposed plan amendments, the BLM will host public meetings on or before November 25, 2015. The BLM will notify the public of the precise date of such meetings and any other opportunities for the public to be involved in the process at least 15 days prior to the event via news release to the media, individual mailings, and postings on the BLM's Project Web site.

The BLM will use and coordinate the NEPA commenting process to help fulfill the public involvement process under section 106 of the National Historic Preservation Act (NHPA) (16 U.S.C. 470f), as provided for in 36 CFR 800.2(d)(3). Information about historic and cultural resources in the area potentially affected by the Project will assist the BLM in identifying and evaluating impacts to such resources in the context of both NEPA and section 106 of the NHPA. Native American tribal consultations will be conducted in accordance with applicable policy, and tribal concerns will be given due consideration. Federal, State, and local agencies, along with other stakeholders that may be interested or affected by the BLM's decisions on this proposal, are invited to participate in the scoping process and, if eligible, may request or be requested by the BLM to participate as a cooperating agency.

Before including your address, phone number, email address or other personal identifying information in your comment, you should be aware that your entire comment—including your personal identifying information—may be made publicly available at any time. While you may ask us in your comment to withhold your personal identifying information from public review, we cannot guarantee that we will be able to do so.

Authority: 40 CFR 1501.7, 43 CFR 1610.2.

Mary Jo Rugwell,
Acting State Director.

[FR Doc. 2015-27191 Filed 10-23-15; 8:45 am]

BILLING CODE 4310-22-P